FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, D.C. 20573.

Non-Vessel-Operating Common Carrier Ocean Transportation Intermediary Applicants:

F.M.I. Cargo Shipping, Inc., 1022 W. Irving Park Road, Bensenville, IL 60106. Officers: Felix Wong, Secretary (Qualifying Individual); Wai-Fan Yeung, President.

DVN Carriers, LP, 6802 Mapleridge Street, Suite 207, Bellaire, TX 77401. Officers: C. Rider Griswold, Managing Partner; Madelaine Griswold, Partner.

Jenkar International Freight Ltd., 150-30 132nd Avenue, Jamaica, NY 11434. Officers: Donald James Wolfe, Director (Qualifying Individual).

Ocean Freight Forwarders—Ocean Transportation Intermediary Applicants:

Farris Customs Brokers, Inc., 13591 McGregor Bl., Suite 20, Fort Myers, FL 33912. Officers: Donald G. Farris, Sr., Vice President (Qualifying Individual); Carolyn D. Wilmot, President.

Cargomar Overseas, Inc., 1325 N.W. 78 Avenue, Suite 100, Miami, FL 33126. Officer: Atilio C. Fernandez, President (Qualifying Individual).

Ohlson International Logistics Incorporated, 960 Lunt Avenue, Elk Grove Village, IL 60007. Officers: Michael J. Ohlson, President (Qualifying Individual); Joseph Calabria, Vice President.

Dated: June 23, 2000.
Bryant L. VanBrakle,
Secretary.

[FR Doc. 00-16388 Filed 6-27-00; 8:45 am]

BILLING CODE 6730-01-P